DEPARTMENT OF ENERGY

Research and Development for Locomotive Emissions Reduction and Efficiency Improvements

AGENCY: Albuquerque Operations Office, Department of Energy.

ACTION: Notice of availability of solicitation.

SUMMARY: The U. S. Department of Energy (DOE), Albuquerque Operations Office (AL), is seeking applications for energy efficiency improvements and emissions reduction. Through this solicitation, DOE seeks to improve the energy efficiency and emissions performance of locomotives through the use of advanced diesel engines, emission control technologies, and systems improvements. This solicitation primarily addresses technologies to meet locomotive EPA Tier 2 emissions requirements while providing technologies to improve overall energy efficiency. A DOE technical panel will perform a scientific and engineering evaluation of each responsive application to determine the merit of the approach. DOE anticipates issuing one or more financial assistance instruments from this solicitation. Funding in the amount of $2,500,000 and $5,000,000 over a four-year period is anticipated to be available. Cost sharing of 50% by the applicant is required.

DATES: Applications are to be received no later than 3:00 p.m. local prevailing time on March 29, 2002. Any application received after the due date will not be evaluated.

FOR FURTHER INFORMATION CONTACT: Erwin E. Fragua, Contract Specialist, DOE/AL, at (505) 845-6442 or by e-mail at efragua@doeal.gov.

SUPPLEMENTARY INFORMATION: The solicitation will be available on the internet on or about February 1, 2002 at the following Web site: http://e-center.doe.gov. Applications must be prepared and submitted in accordance with the instructions and forms contained in the solicitation. For profit and not-for-profit organizations, state and local governments, Indian tribes, and institutions of higher learning are eligible for awards under this solicitation. Teaming arrangements are strongly encouraged especially among manufacturers of locomotives and of locomotive components to take advantage of the best complementary technologies available. It is the desire of the DOE that the primary applicant be a locomotive manufacturer.

Issued in Albuquerque, New Mexico, January 25, 2002.
Martha L. Youngblood,
Contracting Officer, Complex Support Branch, Office of Contracts and Procurement.

[FR Doc. 02-2484 Filed 1-31-02; 8:45 am]

BILLING CODE 6450-01-P